DEPARTMENT OF AGRICULTURE

Forest Service

White River National Forest; Summit County, CO; Arapahoe Basin Ski Area and Montezuma Bowl Projects

AGENCY: Forest Service, USDA.

ACTION: Notice of intent to prepare an environmental impact statement.

SUMMARY: The USDA Forest Service will prepare an Environmental Impact Statement (EIS) to disclose the anticipated environmental effects of the Arapahoe Basin Ski Area and Montezuma Bowl Projects. The Proposed Action would upgrade and expand infrastructure within the existing Special Use Permit (SUP) area to accommodate parking demands and improve skiing opportunities for existing and proposed visitation, thereby enhancing the quality of the recreation experience.

The major aspects of the Proposed Action include:

• Install a new fixed-grip triple of quad chairlift in Montezuma Bowl. Adding lift-served skiing within Montezuma Bowl would increase A-Basin's existing overall skiable acreage for approximately 487 to 812 acres. The Montezuma Bowl area would add approximately 175 acres of intermediate terrain and 149 acres of advanced and expert terrain, all accessible for round-trip skiing via one proposed chairlift.

• Install snowfencing west of the proposed lift terminal, below (south) of the ridgeline, to aid in snow retention.

• Install a raised “avalauncher” platform to allow A-Basin ski patrol to safely conduct snow safety operations in Montezuma Bowl.

• Replace the existing Exhibition lift (fixed-grip triple) with a high speed detachable quad chair accommodating 2,60 people per hour in a slightly modified alignment.

• Create an additional 231 parking spaces by widening and re-grading the Lower Overflow Lot and the High Noon Lot, bringing total parking capacity at A-Basin's five lots to 1,781 vehicles. In conjunction with the re-grading of the High Noon lot, a series of sediment detention basins are proposed along the west edge of the parking area, parallel with Highway 6.

DATES: Comments concerning the scope of the analysis should be received by January 6, 2006.

ADDRESSES: Written comments concerning this notice should be addressed to Maribeth Gustafson, Forest Supervisor, c/o Peech Keller, Project Leader, Dillon Ranger District, PO Box 620, Dillon, CO 80498; (970) 468-7735 (fax); or by submitting an e-mail to: comments-rocky-mountain-white-river-eastzone@fs.fed.us.

FOR FURTHER INFORMATION CONTACT: Peech Keller, Project Leader, at the Dillon Ranger District via telephone at (970) 468-5400 or e-mail at cpkeller2fs.fed.us. Individuals who use telecommunication devices for the deaf (TDD) may call the Federal Information Relay Service (FIRS) at 1-800-877-8339 between 8 a.m. and 8 p.m., Eastern Standard Time, Monday through Friday.

SUPPLEMENTARY INFORMATION: The Proposed Action addresses issues related to the recreation experience. Presently, alpine skiing/snowboarding and other resort activities are provided to the public through a SUP issued by the Forest Service and administered by the White River National Forest. All elements of the proposal remain within the existing SUP boundary area.

The proposed improvements are consistent with the 2002 Revised White River National Forest Land and Resource Management Plan (Forest Plan). The proposed improvements are considered necessary in light of current resort deficiencies and projected future visitation.

Purpose and Need for Action

The Forest Service and A-Basin cooperatively identified a purpose for this proposal, which is to upgrade and expand infrastructure within the existing SUP area to accommodate parking demands and improve skiing opportunities for existing and proposed visitation, thereby enhancing the quality of the recreation experience.

Responsible Official

The responsible official is Maribeth Gustafson, Forest Supervisor for the White River National Forest, 900 Grand Ave., P.O. Box 948, Glenwood Springs Colorado 81602. The responsible official will document the decision and reasons for the decision in a Record of Decision. That decision will be subject to appeal under 36 CFR part 215 or part 251.

Nature of Decision To Be Made

Based on the analysis that will be documented in the forthcoming EIS, the responsible official for this project, the Forest Supervisor of the White River National Forest, will decide whether or not to implement, in whole or in part, the Proposed Action or another alternative developed by the Forest Service.

Scoping Process

Public questions and comments regarding this proposal are an integral part of this environmental analysis process. Comments will be used to identify issues and develop alternatives to A-Basin's proposal. To assist the Forest Service in identifying and considering issues and concerns on the proposed action, comments should be as specific as possible.

Input provided by interested and/or affected individuals, organizations and governmental agencies will be used to identify resource issues that will be analyzed in the Draft EIS. The Forest Service will identify significant issues raised during the scoping process, and use them to formulate alternatives, prescribe mitigation measures, or analyze environmental effects.

Comment Requested

This notice of intent initiates the scoping process which guides the development of the draft environmental impact statement, including the identification of the range of alternatives to be considered. While public participation is strictly optional at this stage, the Forest Service believes that it is important to give reviewers notice of several court rulings related to public participation in the subsequent environmental review process. First, reviewers of draft statement must structure their participation in the environmental review of the proposal so that it is meaningful and alerts an agency to the reviewer's position and contentions. Vermont Yankee Nuclear Power Corp. v. NRDC, 435 U.S. 519,553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. Harris, 490 F. Supp. 1334, 1338 (E.D. Wis. 1980).

Because of these court rulings, it is very important that those interested in this proposed action participate during the scoping period so that substantive comments and objections are made available to the Forest Service at a time when it can meaningfully consider them and respond to them in the development of the alternatives. To assist the Forest Service in identifying and considering issues and concerns on the proposed action, comments on the proposed action should be as specific as possible.

Dated: November 18, 2005.
Catherine Kahlow,
Acting Forest Supervisor, White River National Forest.

[FR Doc. 05-23262 Filed 11-29-05; 8:45 am]

BILLING CODE 3410-11-M